ENVIRONMENTAL PROTECTION AGENCY

[ER-FRL-6252-7]

Environmental Impact Statements and Regulations; Availability of EPA Comments

Availability of EPA comments prepared March 13, 2000 Through March 17, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 9, 1999 (63 FR 17856).

Draft EISs

ERP No. D-AFS-L65340-AK

Rating EC2, Finger Mountain Timber Sales, Timber Harvesting, Implementation, US Coast Guard, NPDES and COE Section 10 and 404 Permits, Tongass National Forest, Sitka Ranger District, AK.

Summary: EPA expressed environmental concerns regarding the maintenance of existing and proposed roads, the cumulative impacts of log transfer facilities to the substrate, water quality, and the benthic environment. EPA also requested that the EIS include a discussion of essential fish habitat.

ERP No. D-AFS-L65343-ID

Rating EC2, Whiskey Campo Resource Management Project, Implementation, Elmore County, ID.

Summary: EPA expressed environmental concerns about potential sediment impacts, the lack of measures to mitigate sediment impacts and a restricted range of alternatives. EPA recommended the EIS use the framework outlined in the Forest Service Protocol for Addressing 303(d) Waters.

ERP No. D-NPS-J26002-MT

Rating EC2, Lake McDonald/Park Headquarters Wastewater Treatment System Rehabilitation, Implementation, COE Section 404 Permit, Glacier National Park, A Portion of Waterton-Glacier International Peach Park, Flathead and Glacier Counties, MT.

Summary: EPA expressed concerns about potential impacts to water quality. EPA requested additional information on treatment system capacity, treatment units, flow volumes, waste streams, chemical addition streams, and sludge disposal. EPA also provided effluent limitations that the discharge locations must meet.

ERP No. D-SFW-J64007-00

Rating EC2, Plum Creek Native Fish Habitat Conservation Plan, Issuance of an Incidential Take Permit for Federally Protected Native Fish Species, MT, ID and WA.

Summary: EPA expressed environmental concerns regarding the adequacy of the proposed monitoring and adaptive management program, particularly cumulative effects, and about the adequacy of proposed riparian management prescriptions. EPA believes additional information should be provided regarding integration of the program with overall conservation efforts, availability of resources for oversight and evaluation of the program, and consistency between the program and TMDLs.

Final EISs

ERP No. F-AFS-J65279-MT Wayup Mine/Fourth of July Road Access, Right-of-Way Grant, Kootenai National Forest, Libby Ranger District, Lincoln County, MT.

Summary: EPA continues to be concerned about potential water quality impacts from sedimentation.

ERP No. F-AFS-J65290-UT Snowbird Ski and Summer Resort Master Development Plan, Implementation, Special-Use-Permit and COE Section 404 Permit, Salt Lake and Lake Counties, Salt Lake City, UT.

Summary: No formal comment letter was sent to the preparing agency.

ERP No. F-AFS-L65316-ID Coeur d'Alene River Ranger District Noxious Weed Control Project, Treating 76 Specific Sites across District, Kootenai and Shoshone Counties, ID.

Summary: No formal comment letter was sent to the preparing agency.

ERP No. FS-NAS-A12031-00 Programmatic EIS—Sounding Rocket Program (SRP), Updated Information concerning Programmatic Changes since the 1973 FEIS, Site-Specific to Wallops Flight Facility (WFF), Wallops Island, VA; Poker Flat Research Ranger (PFRR), Fairbanks, AK and White Sands Missile Range (WSMR), White Sands, NM and on a Global Scale.

Summary: EPA has no objection to the action as proposed.

Dated: March 28, 2000.
Joseph C. Montgomery,
Director, NEPA Compliance Division, Office of Federal Activities.

[FR Doc. 00-8023 Filed 3-30-00; 8:45 am]

BILLING CODE 6560-50-M